DEPARTMENT OF COMMERCE

International Trade Administration

[A-570-863]

Honey From the People's Republic of China: Preliminary Results of Antidumping Duty Administrative Review; 2012-2013

AGENCY: Enforcement and Compliance, International Trade Administration, Department of Commerce.

SUMMARY: In response to requests from interested parties, the Department of Commerce (“Department”) is conducting an administrative review of the antidumping duty order on honey from the People's Republic of China (“PRC”). The period of review (“POR”) is December 1, 2012, through November 30, 2013. As discussed below, during the review, because the single mandatory respondent, Kunshan Xinlong Food Co., Ltd. (“Kunshan Xinlong”), did not cooperate, the Department preliminarily determines to treat this company as part of the PRC-wide entity. If these preliminary results are adopted in the final results of review, the Department will instruct U.S. Customs and Border Protection (“CBP”) to assess antidumping duties on entries of subject merchandise during the POR.

DATES: Effective Date: January 7, 2015.

FOR FURTHER INFORMATION CONTACT: Irene Gorelik, AD/CVD Operations, Office V, Enforcement and Compliance, International Trade Administration, Department of Commerce, 14th Street and Constitution Avenue NW., Washington, DC 20230; telephone: (202) 482-6905.

SUPPLEMENTARY INFORMATION:

Background

On February 3, 2014, the Department initiated an administrative review of the antidumping duty Order ¹ on honey from the PRC.² On February 28, 2014, Petitioners ³ withdrew their request for an administrative review for all companies under review except Kunshan Xinlong.⁴

¹ See Notice Of Antidumping Duty Order and Amendment to Final Determination: Honey from the People's Republic of China, 66 FR 59026 (December 10, 2001) (“Order”).

² See Initiation of Antidumping and Countervailing Duty Administrative Reviews and Request for Revocation in Part, 79 FR 6147 (February 3, 2014) (“Initiation”).

³ Petitioners are: American Honey Producers Association and Sioux Honey Association.

⁴ See Letter from Petitioners re: “Petitioners' Partial Withdrawal of Request for 12th Administrative Review,” dated February 28, 2014.

Scope of the Order

The products covered by the Order are natural honey, artificial honey containing more than 50 percent natural honey by weight, preparations of natural honey containing more than 50 percent natural honey by weight and flavored honey.

The merchandise subject to the order is currently classifiable under subheadings 0409.00.00, 1702.90.90, 2106.90.99, 0409.00.0010, 0409.00.0035, 0409.00.0005, 0409.00.0045, 0409.00.0056, and 0409.00.0065 of the Harmonized Tariff Schedule of the United States (“HTSUS”). Although the HTSUS subheadings are provided for convenience and customs purposes, the Department's written description of the merchandise under the order is dispositive.⁵

⁵ For the complete description of the scope of the Order, see “Decision Memorandum for the Preliminary Results of the 2012-2013 Administrative Review: Honey from the People's Republic of China,” from Christian Marsh, Deputy Assistant Secretary for Antidumping and Countervailing Duty Operations, to Paul Piquado, Assistant Secretary for Import Administration, (“Preliminary Decision Memorandum”), dated concurrently with this notice.

Methodology

The Department conducted this review in accordance with section 751(a)(2) of the Tariff Act of 1930, as amended (“the Act”). In making our findings, we have relied on facts available, and because the single mandatory respondent, Kunshan Xinlong, which we preliminarily are treating as part of the PRC-wide entity, did not act to the best of its ability to respond to the Department's requests for information, we have drawn an adverse inference in selecting from among the facts otherwise available.⁶

⁶ See sections 776(a) and (b) of the Act.

For a full description of the methodology underlying our conclusions, see the Preliminary Decision Memorandum, dated concurrently with these results and hereby adopted by this notice. The Preliminary Decision Memorandum is a public document and is on file electronically via Enforcement and Compliance's Antidumping and Countervailing Duty Centralized Electronic Service System (“ACCESS”).⁷ ACCESS is available to registered users at http://access.trade.gov and to all parties in the Central Records Unit (“CRU”), Room 7046 of the main Department of Commerce building. In addition, parties can obtain a complete version of the Preliminary Decision Memorandum on the Internet at http://trade.gov/enforcement/frn/index.html. The signed Preliminary Decision Memorandum and the electronic versions of the Preliminary Decision Memorandum are identical in content.

⁷ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Preliminary Results of Review

We preliminarily determine that the following antidumping duty margin exists:

Manufacturer/exporter | Margin (dollars per kilogram)
PRC-wide entity (including Kunshan Xinlong Food Co., Ltd.) | 2.63

Disclosure and Public Comment

Normally, the Department discloses to interested parties the calculations performed in connection with a preliminary results within five days of the date of publication of the notice of preliminary results in the Federal Register, in accordance with 19 CFR 351.224(b). However, because the Department preliminarily applied adverse facts available to the PRC-wide entity, including Kunshan Xinlong, pursuant to section 776 of the Act, there are no calculations to disclose, the determination for which is fully discussed in the Preliminary Decision Memorandum.

Interested parties are invited to comment on the preliminary results and may submit case briefs and/or written comments no later than 30 days after the date of publication of these preliminary results.⁸ A table of contents, list of authorities used, and an executive summary of issues should accompany any briefs submitted to the Department.⁹ Rebuttal briefs, limited to issues raised in the case briefs, will be due five days later.¹⁰

⁸ See 19 CFR 351.309(c)(1)(ii).

⁹ See 19 CFR 351.309(c)(2).

¹⁰ See 19 CFR 351.309(d).

Interested parties who wish to request a hearing, or to participate if one is requested, must submit a written request to the Assistant Secretary for Enforcement and Compliance, U.S. Department of Commerce, filed electronically in ACCESS. An electronically filed document must be received successfully in its entirety in ACCESS, by 5:00 p.m. Eastern Standard Time, within 30 days after the date of publication of this notice.¹¹ Hearing requests should contain the party's name, address, and telephone number, the number of participants, and a list of the issues you intend to present at the hearing. If a request for a hearing is made, the Department intends to hold the hearing at the U.S. Department of Commerce, 14th Street and Constitution Avenue NW., Washington, DC 20230, at a time and location to be determined. Parties should confirm by telephone the date, time, and location of the hearing two days before the scheduled date.

¹¹ See 19 CFR 351.310(c).

The Department intends to issue the final results of this administrative review, including the results of our analysis of issues raised in the written comments, within 120 days of publication of these preliminary results in the Federal Register.

Assessment Rates

Upon issuance of the final results, the Department will determine, and CBP shall assess, antidumping duties on all appropriate entries covered by this review. The Department intends to issue assessment instructions to CBP 15 days after the publication date of the final results of this review.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of this review (except, if the rate is zero or de minimis, i.e., less than 0.5 percent, no cash deposit rate will be required for that company); (2) for previously investigated or reviewed PRC and non-PRC exporters not listed above that have separate rates, the cash deposit rate will continue to be the exporter-specific rate published for the most recently completed period; (3) for all PRC exporters of subject merchandise that have not been found to be entitled to a separate rate, the cash deposit rate will be the PRC-wide rate of $2.63 per kilogram; and, (4) for all non-PRC exporters of subject merchandise which have not received their own rate, the cash deposit rate will be the rate applicable to the PRC exporter(s) that supplied that non-PRC exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751(a)(1) and 777(i)(1) of the Act and 19 CFR 351.221(b)(4).

Dated: December 29, 2014.
Paul Piquado,
Assistant Secretary for Enforcement and Compliance.

List of Topics Discussed in the Preliminary Decision Memorandum

I. Summary

II. Background

1. Initiation

2. Period of Review

3. Scope of the Order

III. Discussion of the Methodology

1. Non-Market Economy Country

2. Separate Rates

3. Withdrawal of Requests for Review

4. Use of Facts Available and AFA

A. Background and Basis for Use of Facts Available

B. Application of Facts Available and Selection Based Upon Adverse Inferences for the PRC-Wide Entity

5. Corroboration of AFA Rate

IV. Conclusion

[FR Doc. 2014-30852 Filed 1-6-15; 8:45 am]

BILLING CODE 3510-DS-P